DEPARTMENT OF ENERGY

Federal Energy Regulatory Commission

Colorado Interstate Gas Company; [Docket No. RP02-91-000] Notice of Tariff Filing

December 6, 2001.

Take notice that on November 30, 2001, Colorado Interstate Gas Company (CIG), tendered for filing its final true-up of the Gas Quality Control (GQC) surcharge.

CIG states that the purpose of the filing is to comply with its FERC Gas Tariff, First Revised Volume No. 1, Article 20.1 of the General Terms and Conditions, and the Order of the Federal Energy Regulatory Commission in Docket No. RP01-570-000. CIG states that this filing reflects the final true-up of the GQC surcharge which tracked the costs associated with the incremental facilities and, if any, the cost of low-Btu gas as the result of the Offer of Settlement as accepted by the Commission and approved in Docket No. RP98-113.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-30723 Filed 12-11-01; 8:45 am]

BILLING CODE 6717-01-P